DEPARTMENT OF COMMERCE

National Oceanic and Atmospheric Administration

RIN 0648-XE501

National Essential Fish Habitat Summit Public Meeting

AGENCY: National Marine Fisheries Service (NMFS), National Oceanic and Atmospheric Administration (NOAA), Commerce.

ACTION: Notice of public meeting.

SUMMARY: The National Marine Fisheries Service will host a public meeting, consisting of representatives from the Regional Fishery Management Councils, the National Marine Fisheries Service, and interested members of the public. The purpose of the meeting is to identify and share opportunities, challenges, and successful approaches for the effective implementation of the Magnuson-Stevens Fishery Conservation and Management Act Essential Fish Habitat authorities. Registration is required, and participation may be limited. See http://www.fisheriesforum.org/our-work/special-projects/efh-summit for more information and to register.

DATES: The meeting will begin Tuesday, May 17, 2016, at 8:30 a.m. and will end on Thursday, May 19, 2016, at 3 p.m.

ADDRESSES: The meeting will be held at the Westin Annapolis, 100 Westgate Circle, Annapolis, MD 21401, telephone: 410-972-4300.

FOR FURTHER INFORMATION CONTACT: Terra Lederhouse at (301) 427-8639 or terra.lederhouse@noaa.gov.

SUPPLEMENTARY INFORMATION: The Essential Fish Habitat (EFH) Summit is a collaborative effort between the National Marine Fisheries Service, the Regional Fishery Management Councils, and the Fisheries Leadership and Sustainability Forum. The final agenda will be responsive to the interests, questions, and areas of expertise among participating National Marine Fisheries Service and Regional Fishery Management Council representatives, and may include discussions on EFH conservation roles, responsibilities, and process, the use of habitat science for management decisions, EFH and the changing marine environment, and the future of EFH conservation. A copy of the final agenda will be available at http://www.fisheriesforum.org/our-work/special-projects/efh-summit.

Special Accommodations

The meeting location is physically accessible to people with disabilities. Requests for sign language interpretation or other auxiliary aids should be directed to Terra Lederhouse at (301) 427-8639 at least 5 days prior to the meeting date.

Dated: March 17, 2016.
Carrie Selberg,
Deputy Director, Office of Habitat Conservation, National Marine Fisheries Service.

[FR Doc. 2016-06414 Filed 3-21-16; 8:45 am]

BILLING CODE 3510-22-P